DEPARTMENT OF COMMERCE

Foreign-Trade Zones Board

[B-20-2025]

Foreign-Trade Zone (FTZ) 29, Notification of Proposed Production Activity; Logitech; (Audio, Visual, and Gaming Equipment); Shepherdsville, Kentucky

On behalf of Logitech, Arvato USA, LLC submitted a notification of proposed production activity to the FTZ Board (the Board) for its facility in Shepherdsville, Kentucky within FTZ 29. The notification conforming to the requirements of the Board's regulations (15 CFR 400.22) was received on March 27, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include peripherals (audio, computer, sim racing), content creation equipment, and video conference devices (duty rates are duty-free).

The proposed foreign-status materials/components include: microphones (streaming; video conference); speakers (Bluetooth with single driver; Bluetooth with multiple drivers; personal computer; personal computer with single driver); headsets (wired; wireless); virtual reality pens; remotes (gaming; presentation); conferencing displays; desktop streaming LED lights; sim racing components (wheels; pedals); flight simulators; adaptive gaming controllers; webcams; conference webcams; video conferencing components (systems; cameras; table mounts; wall brackets; scheduler touch screen devices); USB receivers; pads (wireless charging; mouse); keyboards (wired; wireless); mouses (wired; wireless); palm rests (duty rate ranges from duty-free to 2.0%). The request indicates that certain materials/components are subject to duties under section 1702(a)(1)(B) of the International Emergency Economic Powers Act (section 1702), and section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is May 14, 2025.

A copy of the notification will be available for public inspection in the “Online FTZ Information System” section of the Board's website.

For further information, contact Juanita Chen at juanita.chen@trade.gov.

Dated: March 31, 2025.
Elizabeth Whiteman,
Executive Secretary.

[FR Doc. 2025-05794 Filed 4-3-25; 8:45 am]

BILLING CODE 3510-DS-P